ENVIRONMENTAL PROTECTION AGENCY

40 CFR PART 51

[OAR-2005-0148; FRL-7982-9]

Advance Notice To Solicit Comments, Data and Information for Determining the Emissions Reductions Achieved in Ozone Nonattainment and Maintenance Areas From the Implementation of Rules Limiting the VOC Content of AIM Coatings; Extension of Comment Period

AGENCY: Environmental Protection Agency (EPA).

ACTION: Advance notice of proposed rulemaking; extension of the comment period.

SUMMARY: EPA is extending the comment period for an advanced notice of proposed rulemaking (ANPR) published on August 31, 2005 (70 FR 51694). In the August 31, 2005 ANPR, EPA solicited comments, data and information for determining how to calculate the reductions in volatile organic compounds (VOC) emissions achieved in ozone nonattainment and maintenance areas from the implementation of rules which limit the VOC content of architectural coatings (commonly referred to as architectural industrial maintenance, or AIM, coatings). In addition to submitting comments, data and information, interested parties may also request to meet with EPA to present their recommended approaches and rationales. Pursuant to requests of the Ozone Transport Commission and the California Air Resources Board, EPA is extending the comment period through December 16, 2005.

DATES: Comments, data, and information must be submitted on or before December 16, 2005. Requests to meet with EPA should be made on or before November 28, 2005.

ADDRESSES: Submit your written comments, data and information, identified by Docket ID No. OAR-2005-0148, by one of the following methods:

Federal eRulemaking Portal: http://www.regulations.gov. Follow the on-line instructions for submitting comments.

Agency Web site: http://www.epa.gov/edocket. EDOCKET, EPA's electronic public docket and comment system, is EPA's preferred method for receiving comments. Follow the on-line instructions for submitting comments.

E-mail: Send electronic mail (e-mail) to EPA Docket Center at a-and-r-Docket@epa.gov.

Fax: Send faxes to the EPA Docket Center at (202) 566-1741.

Mail: Air and Radiation Docket, U.S. Environmental Protection Agency, Mail Code 6102T, 1200 Pennsylvania Avenue, NW., Washington, DC 20460. Attn: Docket ID No. OAR-2005-0148, Advance Notice for Information on Determining the Emissions Reductions Achieved from Limiting the VOC Content of Architectural Coating. Please include a total of two copies.

Hand Delivery or Courier: EPA Docket Center (Air and Radiation Docket), U.S. Environmental Protection Agency, EPA West Building, Room B102, 1301 Constitution Avenue, NW., Washington, DC 20004. Such deliveries are only accepted during the Docket's normal hours of operation, and special arrangements should be made for delivery of boxed information.

Instructions: Direct your comments to Docket ID No. OAR-2005-0148. The EPA's policy is that all comments received will be included in the public docket without change, and may be made available online at http://www.epa.gov/edocket, including any personal information provided, unless the comment includes information claimed to be Confidential Business Information (CBI) or other information whose disclosure is restricted by statute. Do not submit information that you consider to be CBI or otherwise protected through EDOCKET, regulations.gov or e-mail. The EPA EDOCKET and the federal regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy during normal business hours at the Air and Radiation Docket, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1742.

FOR FURTHER INFORMATION CONTACT: Marcia L. Spink, Associate Director for Air Programs, Air Protection Division, Mail Code 3AP20, U.S. EPA Region III, 1650 Arch Street, Philadelphia, PA 19103, telephone (215) 814-2104, or by e-mail at spink.marcia @epa.gov. To schedule a meeting with EPA, please contact David Sanders, U.S. EPA, Ozone Policy & Strategies Group, Air Quality Strategies & Standards Division, Mail Code C539-02, Office of Air Quality Planning & Standards, Research Triangle Park, NC 27711, telephone (919) 541-3356, or by e-mail at sanders.dave@epa.gov.

Dated: October 5, 2005.
William L. Wehrum,
Acting Assistant Administrator, Office of Air and Radiation.

[FR Doc. 05-20520 Filed 10-12-05; 8:45 am]

BILLING CODE 6560-50-P